DEPARTMENT OF DEFENSE

GENERAL SERVICES ADMINISTRATION

NATIONAL AERONAUTICS AND SPACE ADMINISTRATION

[OMB Control No. 9000-0179; Docket 2017-0053 Sequence 5]

Submission for OMB Review; Service Contracts Reporting Requirements

AGENCY: Department of Defense (DoD), General Services Administration (GSA), and National Aeronautics and Space Administration (NASA).

ACTION: Notice of request for public comments regarding an existing information clearance.

SUMMARY: Under the provisions of the Paperwork Reduction Act, the Regulatory Secretariat Division will be submitting to the Office of Management and Budget (OMB) a request to review and approve a new information collection requirement for Service Contracts Reporting Requirements. A notice published in the Federal Register at 82 FR 24349 on May 26, 2017. No comments were received.

DATES: Submit comments on or before September 20, 2017.

ADDRESSES: Submit comments in response to OMB Control 9000-0179, by any of the following methods:

• Regulations.gov: http://www.regulations.gov.

Submit comments via the Federal eRulemaking portal by searching the OMB control number. Select the link “Submit a Comment” that corresponds with OMB Control 9000-0179 at the “Submit a Comment” screen. Please include your name, company name (if any), and “OMB Control 9000-0179” on your attached document.

• Mail: General Services Administration, FAR Secretariat (MVCB), ATTN: Ms. Joanne Sosa, 1800 F Street NW., Washington, DC 20405.

Instructions: Please submit comments only and cite OMB Control 9000-0179, in all correspondence related to this case. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Curtis E. Glover, Sr., Procurement Analyst, Office of Acquisition Policy, at 202-501-1448 or via email at curtis.glover@gsa.gov.

SUPPLEMENTARY INFORMATION:

A. Purpose

Section 743(a) of Division C of the Consolidated Appropriations Act, 2010 (Pub. L. 111-117) requires executive agencies covered by the Federal Activities Inventory Reform (FAIR) Act (Pub. L. 105-270), except DoD, to submit to the Office of Management and Budget (OMB) annually an inventory of activities performed by service contractors. DoD is exempt from this reporting requirement because 10 U.S.C. 2462 and 10 U.S.C. 2330a(c) already require DoD to develop an annual service contract inventory.

House Report 111-366 notes, in connection with section 743, that, “in the absence of complete and reliable information on the extent of their reliance on service contractors, Federal agencies are not well-equipped to determine whether they have the right balance of contractor and in-house resources needed to accomplish their missions. Therefore, this rule intends to supplement agency annual service contract reporting requirements with the contractor provided service contract reporting information.

The information is to be submitted pursuant to clauses 52.204-14 and 52.204-15. Certain prime service contractors will provide annually—

a. The contract number, and, as applicable, order number;

b. The total dollar amount invoiced for services performed during the previous Government fiscal year under the contract;

c. The number of contractor direct labor hours expended on the services performed during the previous Government fiscal year; and

d. Data reported by subcontractors.

The prime contractor shall require each first-tier subcontractor performing under the contract to provide annually—

a. The subcontract number (including subcontractor name and if available, Unique Entity Identifier number; and

b. The number of first-tier subcontractor direct-labor hours expended on the services performed during the previous Government fiscal year.

In order to invoice the government for time-and-material/labor-hour (T&M/LH) and cost-reimbursement contracts, contractors already track labor hours expended, so the rule will cover T&M/LH and cost-reimbursement contracts over the simplified acquisition threshold.

Fixed price contracts are covered if the estimated total value is at $500,000 or more in FY 2016 and thereafter.

For indefinite-delivery contracts, including but not limited to, indefinite-delivery indefinite-quantity (IDIQ) contracts, Federal Supply Schedule (FSS) contracts, Governmentwide Acquisition contracts (GWACs), and multi-agency contracts, reporting requirements will be determined based on the expected dollar amount and type of the orders issued under the contracts.

The burden has increased from the one in Federal Register Notice 78 FR 16268 dated March 14, 2013 due to more respondents being included in the overall total based on FY 2016 FPDS data. The threshold for Fixed-price contract reports are now covered if the estimated total value is at $500,000 or more.

B. Annual Reporting Burden

Respondents: 111,172.

Responses/respondent: 1.

Total annual Responses: 111,172.

Preparation hours per response: 2.

Total response burden hours: 222,344.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 9000-0179, Service Contracts Reporting Requirements, in all correspondence.

Dated: August 16, 2017.
Lorin S. Curit,
Director, Federal Acquisition Policy Division, Office of Governmentwide Acquisition Policy, Office of Acquisition Policy, Office of Governmentwide Policy.

[FR Doc. 2017-17593 Filed 8-18-17; 8:45 am]

BILLING CODE 6820-EP-P